DEPARTMENT OF THE INTERIOR

Bureau of Land Management

[LLOR930000.L63500000.DP0000.LXSS081H0000.15XL1116AF; HAG 15-0188]

Draft Resource Management Plan Revisions and Draft Environmental Impact Statement for Western Oregon; Notice of Reopening of Comment Period

AGENCY: Bureau of Land Management, Interior.

ACTION: Notice of extension.

SUMMARY: The Bureau of Land Management (BLM) announces a reopening of the comment period for the Draft Resource Management Plan (RMP) Revisions and a Draft Environmental Impact Statement (EIS) for Western Oregon. The original notice published in the Federal Register on April 24, 2015 (80 FR 23046). The BLM is reopening the comment period until August 21, 2015.

DATES: The comment period for the notice published April 24, 2015 (80 FR 23046) is resopened until August 21, 2015.

ADDRESSES: Copies of the Draft RMP Revisions and Draft EIS have previously been sent to affected Federal, State, and local government agencies and to other stakeholders. Copies of the Draft RMP Revisions and Draft EIS for Western Oregon are available for public inspection at the Oregon State Office at the address below. Interested persons may also review the Draft RMP Revisions and Draft EIS on the internet at: www.blm.gov/or/plans/rmpswesternoregon.

You may submit comments related to the Draft RMP Revisions, Draft EIS for Western Oregon by any of the following methods:

• Web site: www.blm.gov/or/plans/rmpswesternoregon.

• Email: BLM_OR_RMPWO_Comments@blm.gov.

• Fax: 503-808-6021.

• Mail: BLM-EIS for Western Oregon, 1220 SW. 3rd Avenue, Portland, OR 97204; or P.O. Box 2965, Portland, OR 97208

FOR FURTHER INFORMATION CONTACT: Mr. Mark Brown, RMPs for Western Oregon Project Manager; telephone: 503-808-6233; address: 1220 SW. 3rd Avenue, Portland, OR 97204, or P.O. Box 2965, Portland, OR 97208; or email at BLM_OR_RMPWO_Comments@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The BLM prepared the Draft RMP Revisions and Draft EIS for Western Oregon encompassing approximately 2,550,000 acres of BLM-administered lands and 69,000 acres of split-estate lands in western Oregon. The documents address a range of alternatives focused on providing a sustained yield of timber, contributing to the conservation and recovery of threatened and endangered species, providing for clean water, restoring fire-adapted ecosystems, coordinating management of lands surrounding the Coquille Forest with the Coquille Tribe, and providing for recreation opportunities. The Draft RMP Revisions and Draft EIS propose to revise the RMPs for the Coos Bay, Eugene, Medford, Roseburg, and Salem Districts and the Lakeview District's Klamath Falls Resource Area. These six RMPs, completed in 1995, incorporated the land use allocations and standards and guidelines from the Northwest Forest Plan.

In 2012, the BLM conducted an evaluation of the 1995 RMPs in accordance with its planning regulations and concluded that a plan revision was necessary to address the changed circumstances and new information that had led to a substantial, long-term departure from the timber management outcomes predicted under the 1995 RMPs.

The original Notice of Availability asking for comments on the Draft RMP Revisions and Draft EIS for Western Oregon was published in the Federal Register on April 24, 2015 (80 FR 23046). The BLM received requests for an extension of the comment period from individuals and groups. The BLM has decided to accede to these requests and reopen the comment period. Comments on the Draft RMP Revisions and Draft EIS for Western Oregon will now be accepted through August 21, 2015.

Authority: 40 CFR 1506.6, 40 CFR 1506.10, 43 CFR 1610.2.

Jerome E. Perez,
State Director, Oregon/Washington.

[FR Doc. 2015-18605 Filed 7-24-15; 4:15 pm]

BILLING CODE 4310-33-P